DEPARTMENT OF TRANSPORTATION

Federal Aviation Administration

Aviation Noise Impacts Roadmap Annual Meeting

AGENCY: Federal Aviation Administration (FAA), DOT.

ACTION: Notice of meeting participation.

SUMMARY: This notice advises interested persons that the First Annual Meeting of the Aviation Noise Impacts Roadmap will be held on April 19-20, 2011, in Washington, DC, to coordinate and communicate research activities and findings among stakeholders and other parties with an interest in aviation noise impacts. The purpose of the meeting is to update and advance our collective scientific knowledge of the impact of aircraft noise on society in order to improve our ability to address various aspects of noise impacts and develop optimal mitigation solutions.

DATES: The First Annual Meeting of the Aviation Noise Impacts Roadmap will be held on April 19-20, 2011, in Washington, DC. The meeting will begin each day at 8:30 a.m. and conclude at 5:30 p.m.

ADDRESSES: The meeting will be held at the Department of Housing and Urban Development (HUD) Headquarters building, 451 7th Street, SW., Washington, DC 20410, Conference Room C. Attendance is open to all interested parties; however, for building security requirements, please register by March 29 (see below for information on registration).

FOR FURTHER INFORMATION CONTACT: Patricia Friesenhahn, Office of Environment and Energy (AEE-100), Federal Aviation Administration, 800 Independence Avenue, SW., Washington, DC 20591; e-mail patricia.friesenhahn@faa.gov, telephone (202) 267-3562, facsimile (202) 267-5594. Meeting registration is required by March 29; there is no registration fee. To register, please provide your name, business affiliation, a contact email and phone number.

Background: Following the recommendation from the FAA's aircraft noise impacts research workshops, federal agencies are initiating annual meetings on aviation noise impacts research. The first annual meeting will focus on the following topics: noise effects on health and welfare; noise in national parks and wilderness; aircraft noise modeling; and costs of aircraft noise on society. The Department of Transportation's Federal Aviation Administration (FAA), National Aeronautics and Space Administration (NASA), Department of Defense (DOD), Department of Housing and Urban Development (HUD), National Park Service (NPS), Centers for Disease Control and Prevention (CDC) and other federal agencies, international organizations, industry, academia, and the public will meet to discuss ongoing and future noise impacts research activities in the above areas. A product of the meeting will be an Aviation Noise Impacts Roadmap document. The document will outline key research elements, summarize current programs and projects, and identify current knowledge gaps and future research activities. The intent of the Roadmap is to define systematic, focused, and complementary research programs, so that limited resources can be more effectively pooled to advance the knowledge on how best to address the impacts of aviation noise on society.

Issued in Washington, DC, on February 23, 2011.
Carl E. Burleson,
Director of Environment and Energy.

[FR Doc. 2011-4589 Filed 2-28-11; 8:45 am]

BILLING CODE 4910-13-P